DEPARTMENT OF ENERGY

Federal Energy Regulatory Commission

Combined Notice of Filings #1

Take notice that the Commission received the following electric corporate filings:

Docket Numbers: EC20-92-000.

Applicants: SR Snipesville, LLC.

Description: Application for Authorization Under Section 203 of the Federal Power Act, et al. of SR Snipesville, LLC.

Filed Date: 8/17/20.

Accession Number: 20200817-5253.

Comments Due: 5 p.m. ET 9/8/20.

Take notice that the Commission received the following electric rate filings:

Docket Numbers: ER15-1883-009; ER10-1852-043; ER10-1890-015; ER10-1951-025; ER10-1962-014; ER10-1989-015; ER11-2160-015; ER11-4462-046; ER11-4677-015; ER11-4678-015; ER12-2444-014; ER12-631-016; ER13-1991-014; ER13-1992-014; ER13-2112-010; ER15-1016-008; ER15-1375-008; ER15-1418-009; ER15-2477-008; ER16-2443-005; ER16-632-007; ER16-90-008; ER16-91-009; ER17-2340-005; ER17-582-006; ER17-583-006; ER17-838-021.

Applicants: Adelanto Solar, LLC, Adelanto Solar II, LLC, Blythe Solar II, LLC, Blythe Solar 110, LLC, Desert Sunlight 250, LLC, Desert Sunlight 300, LLC, Florida Power & Light Company, FPL Energy Green Power Wind, LLC, FPL Energy, Montezuma Wind, LLC, Genesis Solar, LLC, Golden Hills Interconnection, LLC, Golden Hills North Wind, LLC, Golden Hills Wind, LLC, High Winds, LLC, McCoy Solar, LLC, NextEra Blythe Solar Energy Center, LLC, NextEra Energy Montezuma II Wind, LLC, NextEra Energy Marketing, LLC, NEPM II, LLC, NextEra Energy Services Massachusetts, LLC, North Sky River Energy, LLC, Shafter Solar, LLC, Sky River LLC, Vasco Winds, LLC, Westside Solar, LLC, Whitney Point Solar, LLC, Windpower Partners 1993, LLC.

Description: Notice of Change in Status of NextEra Entities, et al.

Filed Date: 8/17/20.

Accession Number: 20200817-5267.

Comments Due: 5 p.m. ET 9/8/20.

Docket Numbers: ER19-1488-001.

Applicants: Southern Indiana Gas and Electric Company.

Description: Midcontinent Independent System Operator, Inc. submits tariff filing per 35.19a(b): Refund Report_Southern Indiana Gas and Electric Company to be effective N/A.

Filed Date: 8/18/20.

Accession Number: 20200818-5121.

Comments Due: 5 p.m. ET 9/8/20.

Docket Numbers: ER20-6-001.

Applicants: Midcontinent Independent System Operator, Inc.

Description: Midcontinent Independent System Operator, Inc. submits tariff filing per 35.19a(b): Refund Report Alcoa Power Generating Inc. to be effective N/A.

Filed Date: 8/18/20.

Accession Number: 20200818-5117.

Comments Due: 5 p.m. ET 9/8/20.

Docket Numbers: ER20-80-001.

Applicants: Meadow Lake Wind Farm VI LLC.

Description: Report Filing: Refund Report Under Docket ER20-80 to be effective N/A.

Filed Date: 8/18/20.

Accession Number: 20200818-5063.

Comments Due: 5 p.m. ET 9/8/20.

Docket Numbers: ER20-2684-000.

Applicants: Southern California Edison Company.

Description: § 205(d) Rate Filing: Letter Agreement RE Garland A LLC SA No. 250 to be effective 8/18/2020.

Filed Date: 8/17/20.

Accession Number: 20200817-5215.

Comments Due: 5 p.m. ET 9/8/20.

Docket Numbers: ER20-2687-000.

Applicants: PJM Interconnection, L.L.C.

Description: § 205(d) Rate Filing: Original WMPA, Service Agreement No. 5740; Queue No. AF2-272 to be effective 7/20/2020.

Filed Date: 8/18/20.

Accession Number: 20200818-5075.

Comments Due: 5 p.m. ET 9/8/20.

Docket Numbers: ER20-2688-000.

Applicants: California Independent System Operator Corporation.

Description: § 205(d) Rate Filing: 2020-08-18 EIM Implementation Agreement with Avangrid to be effective 10/18/2020.

Filed Date: 8/18/20.

Accession Number: 20200818-5123.

Comments Due: 5 p.m. ET 9/8/20.

Docket Numbers: ER20-2689-000.

Applicants: Emmons-Logan Wind Interconnection, LLC.

Description: Baseline eTariff Filing: Emmons-Logan Wind Interconnection, LLC & Emmons-Logan Wind, LLC SFA to be effective 10/18/2020.

Filed Date: 8/18/20.

Accession Number: 20200818-5133.

Comments Due: 5 p.m. ET 9/8/20.

Docket Numbers: ER20-2690-000.

Applicants: Jordan Creek Wind Farm LLC.

Description: Baseline eTariff Filing: Jordan Creek Wind Farm LLC Application for MBR Authority to be effective 10/18/2020.

Filed Date: 8/18/20.

Accession Number: 20200818-5136.

Comments Due: 5 p.m. ET 9/8/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2020.
Nathaniel J. Davis, Sr.,
Deputy Secretary.

[FR Doc. 2020-18513 Filed 8-21-20; 8:45 am]

BILLING CODE 6717-01-P